DEPARTMENT OF AGRICULTURE

Forest Service

Tahoe National Forest; Sierraville Ranger District: California; Phoenix Project

AGENCY: Forest Service, USDA.

ACTION: Notice of intent to prepare an Environmental Impact Statement.

SUMMARY: The USDA Forest Service, Tahoe National Forest, Sierraville Ranger District gives notice of the Agency's intent to prepare an Environmental Impact Statement (EIS) to disclose the environmental effects of applying silvicultural and fuel treatment prescriptions to treatment units totaling approximately 5,057 acres. This project is part of the Herger-Feinstein Quincy Library Group Forest Recovery Act Pilot Project. The proposed treatments would take place on the Sierraville Ranger District, and be implemented within the next 5 years.

DATES: Comments concerning the scope of the analysis must be received by November 18, 2005. The Draft Environmental Impact Statement (DEIS) is expected to be completed in March of 2006, and the Final Environmental Impact Statement (FEIS) is expected to be completed in July of 2006.

ADDRESSES: Send written comments to Jeff Leach, USDA Forest Service, Sierraville Ranger District, P.O. Box 95 (317 South Lincoln), Sierraville, CA 96126, office hours 8 a.m. to 4:30 p.m., Monday-Friday; telephone (530) 994-3401; FAX (530) 994-3143; e-mail: comments-pacificsouthwest-tahoe-sierraville@fs.fed.us.

FOR FURTHER INFORMATION CONTACT: Jeff Leach or Timothy Evans at the above addresses and phone number.

SUPPLEMENTARY INFORMATION: As part of the HFQLG Act Pilot Project, the Sierraville District completed the planning and NEPA environmental analysis for the Euro and Checkmate Projects. The District Ranger signed the Decision Notice for the Euro Project on May 2, 2005, and the Decision Notice of the Checkmate Project on June 7, 2005. Four Notices of Appeal were filed on the Euro Project Decision. Because of an appeal on the Euro Project Decision by the Lahontan Region of the California Regional Water Quality Control Board, and the denial of a Conditional Waiver of Discharge Requirements for Discharges Related to Timber Harvest Activities by the Central Valley Region, both the Euro and Checkmate Project Decisions were withdrawn on June 28, 2005. Since that time, four public field trips took place to review some of the treatments of both the Euro and Checkmate projects. Participants in at least one of these field trips included representatives from both the Labontan and Central Valley Regions of the California Water Control Board, representatives of some of the organizations that filed appeals of the Euro Decision, and members of the interested public, including representatives of the Quincy Library Group. After considering the discussions that took place on these field trips, the Sierraville District Ranger decided to combine the Euro and Checkmate Projects into one proposed action (now titled the Phoenix Project) and to issue this Notice of Intent to prepare an EIS.

Purpose and Need for Action

The Phoenix Project is being proposed to implement the Herger-Feinstein Quincy Library Group Forest Recovery Act of October 12, 1998 (HFQLG). The underlying need for the pilot project is to fulfill the Secretary of Agriculture's statutory duty under the HFQLG Act, to the extent consistent with applicable Federal Law. That duty is to test and demonstrate the effectiveness of certain resource management activities designed to meet ecologic, economic, and fuel reduction objectives on the Lassen and Plumas National Forests and Sierraville District of the Tahoe National Forest. The Act requires the Secretary to conduct a pilot project for a period of up to 5 years (recently extended through 2009). To accomplish the purpose of the Act, resource management activities are required, including construction of a strategic system of Defensible Fuel Profile Zones (DFPZs), group selection harvest and individual tree selection harvest, and riparian management (watershed restoration) projects. The Act directs the Forest Service to construct 40,000 to 60,000 acres of DFPZs each year. The objectives of the Phoenix Project are:

1. To reduce negative effects from catastrophic wildfire on National Forest, private and state lands, and local communities.

2. To create a safer, more effective fire suppression environment and provide connecting links to existing fuelbreaks.

3. To create the pre-conditions necessary for reintroduction of low intensity fire to the ecosystem, thereby beginning the process of restoring fire to its natural role in the ecology of the project area.

4. To improve timber stand health, vigor, and resistance to fire, insects, and disease.

5. Implement riparian management to restore the health and vigor of aspen stands.

6. To protect and improve habitat for Threatened, Endangered, and Sensitive Species, and Management Indicator Species, both plant and animal.

7. To generate economic activity, income and employment in support of rural community stability.

Proposed Action

1. Implement mechanical thinning from below on approximately 2,657 acres. The thinning prescription would be designed to retain all live trees greater than or equal to 30 inches DBH.

2. Implement group selection harvest with groups less than or equal to 2.0 acres in size, on approximately 390 acres.

3. Implement aspen restoration on approximately 217 acres. Conifers would be removed to a 40-inch diameter limit in areas where conifers are crowding out aspen trees.

4. Implement hand thinning and piling on approximately 991 acres. The hand thinning would thin from below to an upper diameter limit of less than or equal to 10 inches DBH.

5. Implement thinning by mechanical mastication of brush and saplings on approximately 802 acres of young (approximately 20 years old or less) conifer plantations and natural stands.

6. Retain at least three large logs/acre when available, 12 inches diameter or larger at midpoint.

7. Retain at least three of the largest available snags per acre in eastside pine and mixed conifer type, six of the largest available snags in the red fir forest type.

8. Apply Sporax (trade name for sodium tetraborate decahydrate) to cut stumps ≥ 14 inches stump diameter to reduce the spread of the root rot Heterobasidion annosum.

9. Refine DFPZ boundaries identified in the Herger-Feinstein Quincy Library Group Forest Recovery Act (HFQLG) FEIS (1999).

10. Implement and maintenance to provide for public and contractor safety, road surface protection, and erosion control.

11. Implement road repair, and road decommissioning to improve watershed conditions.

12. Use approximately 6.9 miles of temporary roads to provide short-term access to the treatment area, and decommission these roads after the project is completed.

13. Reconstruct approximately 2.1 miles of existing National Forest System roads to improve access for large equipment and trucks to treatment areas, while also improving watershed conditions.

14. Construct 2 new permanent roads totaling approximately 1.7 miles in length to provide access to treatment areas and improve the long-term effectiveness of DFPZs.

15. Apply standards and guidelines from the Tahoe National Forest Land and Resource Management Plan (LMP) (1990), as amended by the HFQLG FEIS Record of Decision (ROD (1990), the HFQLG FSEIS ROD (2003), and the Sierra Nevada Forest Plan Amendment (SNFPA) FSEIS ROD (2004). Also apply standard management requirements such as contract clauses designed to protect forest resources, Best Management Practices (BMPs) for water quality protection, and other mitigation measures specific to this project. All of the proposed treatments would follow the standards and Guidelines applicable to the HFQLG Pilot Project Area described in Appendix A, (Section E, pages 66-69) of the SNFPA ROD.

Possible Alternatives

Alternatives being considered at this time include: 1) proposed action; 2) no action. Additional alternatives to the proposed action would be based on significant issues identified during the scoping process.

Responsible Official

The District Ranger, Sierraville Ranger District, Tahoe National Forest, is the responsible official making the decision, and can be reached at P.O. Box 95, Sierraville, CA 96126. As the responsible official, the District Ranger will document the decision and reasons for the decision in the Record of Decision (ROD), which will be published along with the FEIS.

Nature of Decision To Be Made

The decision to be made is whether to implement the proposed action as described above, to very the location or design of the project to meet the purpose and need while addressing issues raised in public scoping, or to take no action at this time.

Scoping Process

Public participation is viewed as an integral part of the environmental analysis. The Forest Service will be seeking points of dispute, disagreement or debate from Federal, State, and local governmental agencies as well as from individuals or organizations that may be potentially interested or affected by the proposed action. A scoping letter will be mailed to persons who have expressed interest in the proposed action based on notifications in the Tahoe National Forest Quarterly Schedule of Proposed Actions and by notification through a published legal notice in the Mountain Messenger (the newspaper of record for this project), Downieville, California, and the Sierra Booster, Loyalton, California. In addition, persons who provided comment on the Euro and Checkmate Projects will be mailed scoping letters.

Comment Requested

This notice of intent initiates the scoping process which guides the development of the EIS. Comments submitted during the scoping process should be in writing or e-mail, and should be specific to the proposed action. The comments should describe as clearly and completely as possible any points of dispute, debate or disagreement the commenter has with the proposal. Once scoping letters are received, the District shall identify all potential issues, eliminate non-significant issues or those covered by another environmental analysis, identify significant issues to analyze in depth, develop additional alternatives to address those significant issues, and identify potential environmental effects of the proposed action as well as all fully analyzed alternatives.

Early Notice of Importance of Public Participation in Subsequent Environmental Review

A draft environmental impact statement will be prepared for comment. The comment period on the draft environmental impact statement will be 45 days from the date the Environmental Protection Agency publishes the notice of availability in the Federal Register.

The Forest Service believes, at this early stage, it is important to give reviewers notice of several court rulings related to public participation in the environmental review process. First reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980).

Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Dated: October 31, 2005.
Sam J. Wilbanks,
District Ranger.

[FR Doc. 05-22350 Filed 11-8-05; 8:45 am]

BILLING CODE 3410-11-M